DEPARTMENT OF AGRICULTURE

Animal and Plant Health Inspection Service

[Docket No. APHIS-2018-0066]

Plants for Planting Whose Importation Is Not Authorized Pending Pest Risk Analysis; Notice of Availability of Data Sheets for Taxa of Plants for Planting That are Quarantine Pests or Hosts of Quarantine Pests

AGENCY: Animal and Plant Health Inspection Service, USDA.

ACTION: Notice of availability.

SUMMARY: We are advising the public that we have determined that 26 taxa of plants for planting are quarantine pests, and that all Myrtaceae taxa (when destined to Hawaii), all subfamily Bambusoideae taxa, and 43 other taxa of plants for planting are hosts of 18 quarantine pests, and therefore should be added to our lists of taxa of plants for planting whose importation is not authorized pending pest risk analysis. We have prepared data sheets that detail the scientific evidence we evaluated in making the determination that the taxa are quarantine pests or hosts of quarantine pests. We are making these data sheets available to the public for review and comment.

DATES: We will consider all comments that we receive on or before January 24, 2020.

ADDRESSES: You may submit comments by either of the following methods:

• Federal eRulemaking Portal: Go to http://www.regulations.gov/#!docketDetail;D=APHIS-2018-0066.

• Postal Mail/Commercial Delivery: Send your comment to Docket No. APHIS-2018-0066, Regulatory Analysis and Development, PPD, APHIS, Station 3A-03.8, 4700 River Road, Unit 118, Riverdale, MD 20737-1238.

The data sheets and any comments we receive may be viewed at http://www.regulations.gov/#!docketDetail;D=APHIS-2018-0066 or in our reading room, which is located in Room 1141 of the USDA South Building, 14th Street and Independence Avenue SW, Washington, DC. Normal reading room hours are 8 a.m. to 4:30 p.m., Monday through Friday, except holidays. To be sure someone is there to help you, please call (202) 799-7039 before coming.

FOR FURTHER INFORMATION CONTACT: Dr. Indira Singh, Botanist, Plants for Planting Policy, IRM, PPQ, APHIS, 4700 River Road, Unit 133, Riverdale, MD 20737-1236; (301) 851-2020.

SUPPLEMENTARY INFORMATION:

Background

Under the regulations in “Subpart H—Plants for Planting” (7 CFR 319.37-1 through 319.37-23, referred to below as the regulations), the Animal and Plant Health Inspection Service (APHIS) of the U.S. Department of Agriculture prohibits or restricts the importation of plants for planting (including living plants, plant parts, seeds, and plant cuttings) to prevent the introduction of quarantine pests into the United States. Quarantine pest is defined in § 319.37-2 as a plant pest or noxious weed that is of potential economic importance to the United States and not yet present in the United States, or present but not widely distributed and being officially controlled.

Section 319.37-4 of the regulations provides that certain plants for planting are not authorized importation into the United States pending pest risk analysis (NAPPRA) in order to prevent the introduction of quarantine pests into the United States. There are two lists of taxa whose importation is NAPPRA: A list of taxa of plants for planting that are quarantine pests themselves, and a list of taxa of plants for planting that are hosts of quarantine pests. For taxa of plants for planting that have been determined to be quarantine pests, the list includes the names of the taxa. For taxa of plants for planting that are hosts of quarantine pests, the list includes the names of the taxa, the foreign countries from which the taxa's importation is not authorized, and the quarantine pests of concern.

Paragraph (b) of § 319.37-4 describes the process for adding taxa to the NAPPRA lists. In accordance with that process, this notice announces our determination that 26 taxa of plants for planting are quarantine pests, and that all Myrtaceae taxa (when destined to Hawaii), all subfamily Bambusoideae taxa, and 43 other taxa of plants for planting are hosts of 18 quarantine pests.

This notice also makes available data sheets that detail the scientific evidence we evaluated in making the determination that the taxa are quarantine pests or hosts of a quarantine pest. The data sheets include references to the scientific evidence we used in making these determinations.

A complete list of the taxa of plants for planting that we have determined to be quarantine pests or hosts of quarantine pests, along with the data sheets supporting those determinations, may be viewed on the internet ¹ or in our reading room (see ADDRESSES above for information on the location and hours of the reading room). You may request paper copies of the list and data sheets by calling or writing to the person listed under FOR FURTHER INFORMATION CONTACT. For taxa of plants for planting that are hosts of quarantine pests, the data sheets specify the countries from which the taxa's importation would not be authorized pending pest risk analysis.

¹ See https://www.aphis.usda.gov/aphis/ourfocus/planthealth/import-information/permits/plants-and-plant-products-permits/plants-for-planting/ct_nappra.

Proposed Revision to Criteria for “Significant Trade”

In a notice published in the Federal Register on May 6, 2013 (78 FR 26316-26317, Docket No. APHIS-2012-0076), we proposed to exempt taxa from NAPPRA requirements if there was “significant trade” between an exporting country and the United States in the taxon and if the imported plants had generally been determined to be pest free based on inspection at ports of entry. We stated that, generally, we would consider the importation from a country of 10 or more plants in each of last 3 fiscal years to constitute “significant trade.” We affirmed this as our criterion for an exemption from NAPPRA requirements in a notice published in the Federal Register on June 19, 2017 (82 FR 27786-27792, Docket No. APHIS-2012-0076).

In this notice, we are proposing to add Jasminum spp. plants for planting from South Africa to NAPPRA, and Catharanthus spp. plants for planting from Canada to NAPPRA, even though, in both instances, import history of the taxa slightly exceeds the “significant trade” threshold articulated in the 2013 and 2017 notices. This is because we consider the plant pest associated with Jasminum spp. and Catharanthus spp. plants for planting, Brevipalpus chilensis, to be high risk. Because of the possibility of significant adverse impacts on U.S. agriculture if B. chilensis were to become established within the United States, we decided that imports of at least 10 plants for each of the last 3 fiscal years would not be sufficient in order for us to have assurances that the importation of the taxa does not present a risk of introducing B. chilensis. For those two taxa, we decided that imports would also have to exceed 100 or more plants at least once in the previous 3 fiscal years for this to constitute “significant trade” in the taxa. For other taxa that we are proposing to list on NAPPRA, the “significant trade” criterion articulated in the 2013 and 2017 notices still apply.

Zea spp. From Guatemala and Pennisetum glaucum From Chile

On a related matter, in the 2017 final notice, we added corn (Zea spp.) seed imports from Guatemala and Pennisetum glaucum (Cenchrus americanus) seed imports from Chile to NAPPRA due to an apparent lack of “significant trade.” Since then, U.S. importers have provided import data, which we have corroborated, indicating that corn seed imports from Guatemala and P. glaucum seed imports from Chile met the threshold for “significant trade” set forth in that notice and should not have been added to NAPPRA. We are therefore proposing to remove corn seed imports from Guatemala and P. glaucum seed imports from Chile from NAPPRA.

After reviewing any comments we receive, we will announce our decision regarding the addition of the taxa described in the data sheets to the NAPPRA lists, our proposed revision to the “significant trade” criterion, and our proposed removal of Zea spp. from Guatemala and P. glaucum from Chile from NAPPRA, in a subsequent notice. If the Administrator's determination that the taxa are quarantine pests or hosts of quarantine pests remains unchanged following our consideration of the comments, then we will add the taxa described in the data sheets to the appropriate NAPPRA list.

Authority: 7 U.S.C. 1633 and 7701-7772 and 7781-7786; 21 U.S.C. 136 and 136a; 7 CFR 2.22, 2.80, and 371.3.

Done in Washington, DC, this 18th day of November 2019.
Kevin Shea,
Administrator, Animal and Plant Health Inspection Service.

[FR Doc. 2019-25439 Filed 11-22-19; 8:45 am]

BILLING CODE 3410-34-P